DEPARTMENT OF HEALTH AND HUMAN SERVICES

Public Meeting of the Presidential Commission for the Study of Bioethical Issues

AGENCY: Office of the Assistant Secretary for Health, Presidential Commission for the Study of Bioethical Issues, Department of Health and Human Services.

ACTION: Notice of meeting.

SUMMARY: The Presidential Commission for the Study of Bioethical Issues will conduct its eighth meeting in February. At this meeting, the Commission will discuss issues of privacy and access related to human genome sequence data. The Commission will also be discussing neuroscience and related ethical issues.

DATES: The meeting will take place February 2, 2012 from 9 a.m. to approximately 5:15 p.m. and on February 3, 2012 from 9 a.m. to approximately 12 p.m.

ADDRESSES: Millberry Union, University of California, San Francisco, 500 Parnassus Avenue, San Francisco, CA 94143, (415) 476-2019.

FOR FURTHER INFORMATION CONTACT: Hillary Wicai Viers, Communications Director, Presidential Commission for the Study of Bioethical Issues, 1425 New York Avenue NW., Suite C-100, Washington, DC 20005. Telephone: (202) 233-3960. Email: Hillary.Viers@bioethics.gov. Additional information may be obtained at http://www.bioethics.gov.

SUPPLEMENTARY INFORMATION: Pursuant to the Federal Advisory Committee Act of 1972, Public Law 92-463, 5 U.S.C. app. 2, notice is hereby given of the eighth meeting of the Presidential Commission for the Study of Bioethical Issues (the Commission). The meeting will be held from 9 a.m. to approximately 5:15 p.m. on Thursday, February 2, 2012, and from 9 a.m. to approximately 12 p.m. on Friday, February 3, 2012, in San Francisco, California. The meeting will be open to the public with attendance limited to space available. The meeting will also be webcast at http://www.bioethics.gov. Under authority of Executive Order 13521, dated November 24, 2009, the President established the Commission. The Commission is an advisory panel of the nation's leaders in medicine, science, ethics, religion, law, and engineering. The Commission advises the President on bioethical issues arising from advances in biomedicine and related areas of science and technology. The Commission seeks to identify and promote policies and practices that ensure scientific research, health care delivery, and technological innovation are conducted in a socially and ethically responsible manner. The main agenda item for the Commission's eighth meeting is to discuss issues of privacy and access related to human genome sequence data. The Commission will also be discussing neuroscience and related ethical issues. The draft meeting agenda and other information about PCSBI, including information about access to the webcast, will be available at http://www.bioethics.gov. The Commission welcomes input from anyone wishing to provide public comment on any issue before it. Respectful debate of opposing views and active participation by citizens in public exchange of ideas can enhance decisions that are reached and the overall public understanding of them. The Commission is particularly interested in receiving comments and questions during the meeting that are responsive to specific sessions. Written comments will be accepted at the registration desk and comment forms will be provided for members of the public to write down questions and comments for the Commission as they arise. To accommodate as many individuals as possible, the time for each question or comment may be limited. If the number of individuals wishing to pose a question or make a comment is greater than can reasonably be accommodated during the scheduled meeting, the Commission may make a random selection. Anyone planning to attend the meeting who needs special assistance, such as sign language interpretation or other reasonable accommodations, should notify Esther Yoo by telephone at (202) 233-3960, or email at Esther.Yoo@bioethics.gov in advance of the meeting. The Commission will make every effort to accommodate persons who need special assistance. Written comments will also be accepted in advance of the meeting and are especially welcome. Please address written comments by email to info@bioethics.gov, or by mail to the following address: Public Commentary, Presidential Commission for the Study of Bioethical Issues, 1425 New York Ave. NW., Suite C-100, Washington, DC 20005. Comments will be publicly available, including any personally identifiable or confidential business information that they contain. Trade secrets should not be submitted.

Dated: January 6, 2012.
Valerie H. Bonham,
Executive Director, Presidential Commission for the Study of Bioethical Issues.

[FR Doc. 2012-650 Filed 1-13-12; 8:45 am]

BILLING CODE 4154-06-P